DEPARTMENT OF TRANSPORTATION

Federal Railroad Administration

[Docket Number FRA-2011-0009]

Petition for Extension of Waiver of Compliance

Under part 211 of title 49 Code of Federal Regulations (CFR), this document provides the public notice that on November 7 and 8, 2021, the Nevada Northern Railway Museum (NNR) petitioned the Federal Railroad Administration (FRA) for an extension of a waiver of compliance from certain provisions of the Federal railroad safety regulations contained at 49 CFR parts 215 (Railroad Freight Car Safety Standards) and 224 (Reflectorization of Rail Freight Rolling Stock). The relevant FRA Docket Number is FRA-2011-0009.

Specifically, NNR requested to extend its special approval pursuant to 49 CFR 215.203, Restricted cars, for a total of 13 cars, including 2 cabooses (NN 22 and NN 3), 2 flat cars (NN 23 and NN 100), 5 hopper cars (WSOR 102, WSOR 128, WSOR 134, WSOR 158, and WSOR 159), and 4 boxcars (NN 1021, NN 1023, NN 1024, and NN1025) that are more than 50 years from the date of original construction.¹ NNR also requests to extend its existing relief from 49 CFR 215.303, Stenciling of restricted cars, and 224.101, General requirements. NNR seeks to continue use of the cars in mobile storage, occasional tourist photographic events, and tourist excursion operations. In support of its request, NNR states that the relief would enable the cars to maintain historic integrity and that the cars would remain on NNR's track, not connected to the general railroad system.

¹ Along with its request to renew the relief in this docket, NNR submitted a request to extend the relief in Docket Number FRA-2016-0110 and combine that relief into the FRA-2011-0009 docket.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by February 25, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-00345 Filed 1-10-22; 8:45 am]

BILLING CODE 4910-06-P